DEPARTMENT OF STATE

[Public Notice Number 3326]

Notice of Meetings; International Telecommunication Advisory Committee (ITAC), Telecommunication Development Sector (ITAC-D), Telecommunication Standardization Sector (ITAC-T), National Committee & U.S. Study Group A

The Department of State announces meetings of the U.S. International Telecommunication Advisory Committee (ITAC)—Telecommunication Standardization (ITAC-T) National Committee and US Study Group A, and ITAC—Telecommunication Development (ITAC-D). The purpose of the Committees is to advise the Department on policy and technical issues with respect to the International Telecommunication Union and international telecommunication standardization and development. Except where noted, meetings will be held at the Department of State, 2201 “C” Street, NW, Washington, DC.

The ITAC-D will meet in Room 5951 at the Department of State from 10 to 12 noon on June 21, 2000, to prepare positions for the September meetings of the ITU D Study Groups 1 & 2.

The ITAC-T National Committee will meet from 9:00 to 3:30 on June 22, 2000, at the Telecommunications Industry Association, Wilson Boulevard, Arlington, VA to review the results of the ITU Telecommunication Sector Advisory Group (TSAG), and make preparations for the ITU Council meeting in July 2000 and the World Telecommunication Sector Assembly in September 2000.

The ITAC-T U.S. Study Group A will meet from 2:00 to 4:00 on June 21, 2000, at the Federal Communications Commission to prepare positions regarding “international internet connection” and other matters for the September 2000 WTSA.

Members of the general public may attend these meetings. Directions to meeting locations and actual room assignments may be determined by calling the Secretariat at 202 647-0965/2592. Entrance to the Department of State is controlled; people intending to attend any of the ITAC meetings should send a fax to (202) 647-7407 not later than 24 hours before the meeting. This fax should display the name of the meeting (ITAC T, US Study Group A, or ITAC-D) and date of meeting, your name, social security number, date of birth, and organizational affiliation. One of the following valid photo identifications will be required for admission: U.S. driver's license, passport, US Government identification card. Enter from the C Street Lobby; in view of escorting requirements, non-Government attendees should plan to arrive not less than 15 minutes before the meeting begins.

Attendees may join in the discussions, subject to the instructions of the Chair. Admission of members will be limited to seating available.

Dated: June 5, 2000.
Marian Gordon,
Director, Telecommunication & Information Standardization, Department of State.

[FR Doc. 00-14664 Filed 6-8-00; 8:45 am]

BILLING CODE 4710-45-U